DEPARTMENT OF COMMERCE

International Trade Administration

(A-533-810)

Stainless Steel Bar from India: Notice of Initiation of Antidumping Duty New Shipper Review

AGENCY: Import Administration, International Trade Administration, Department of Commerce.

SUMMARY: The Department of Commerce has received a request for a new shipper review of the antidumping duty order on stainless steel bar from India. In accordance with section 751(a)(2)(B) of the Tariff Act of 1930, as amended, and 19 CFR 351.214(d), we are initiating an antidumping new shipper review of Ambica Steels Limited.

EFFECTIVE DATE: September 26, 2006.

FOR FURTHER INFORMATION CONTACT: Scott Holland or Brandon Farlander, AD/CVD Operations, Office 1, Import Administration, International Trade Administration, U.S. Department of Commerce, 14th Street and Constitution Avenue, NW, Washington, DC 20230; telephone: (202) 482-0179 or (202) 482-0182, respectively.

SUPPLEMENTARY INFORMATION:

Background

On February 21, 1995, the Department of Commerce (the “Department”) published in the Federal Register the antidumping duty order on stainless steel bar (“SSB”) from India. See Antidumping Duty Orders: Stainless Steel Bar form Brazil, India and Japan, 60 FR 9661 (February 21, 1995).

On August 31, 2006, the Department received a timely request from Ambica Steels Limited (“Ambica”), for a new shipper review of the antidumping duty order on SSB from India, in accordance with 19 CFR 351.214(c). The Department also received a timely request for a new shipper review from D.H. Exports Pvt., Ltd. (“DHX”) on August 31, 2006. However, this request did not contain documentation establishing: the date on which DHX first shipped the subject merchandise for export to the United States; the date on which subject merchandise entered the United States; or the volume of the shipment. On September 1, 2006, the Department received an amended request from DHX that contained shipment documentation, however, no documentation establishing the date of first entry into the United States was provided.

This order has a February anniversary month and an August semiannual anniversary month.

Initiation of Review

Pursuant to 19 CFR 351.214(b)(2)(i) and (iii)(A), Ambica certified in its request that it did not export the subject merchandise to the United States during the period of investigation (“POI”) and that it is not now and never has been affiliated with any exporter or producer who exported the subject merchandise to the United States during the POI (i.e., July 1, 1993, through December 31, 1993). Pursuant to 19 CFR 351.214(b)(2)(iv), Ambica also submitted documentation establishing the date on which its stainless steel bar was first shipped for export to the United States, the volume of that shipment, and the date of the first sale to an unaffiliated customer in the United States. Therefore, in accordance with section 751(a)(2)(B) of the Tariff Act of 1930, as amended (“the Act”), and 19 CFR 351.214(d), we are initiating a new shipper review of the antidumping duty order on stainless steel bar from India.

Pursuant to 19 CFR 351.214(g)(1)(i)(B), the standard period of review (“POR”) in a new shipper review based on the semiannual anniversary month is the six-month period immediately preceding the semiannual anniversary month, i.e., for the instant review, February 1 through July 31, 2006. In accordance with 19 CFR 351.214(i), we intend to issue the preliminary results of this review not later than 180 days after the date on which the review is initiated. All provisions of 19 CFR 351.214 will apply to Ambica throughout the duration of this new shipper review, except for 351.214(e), which allows a new shipper to post a single entry bond or other types of securities in lieu of a cash deposit. See the “Cash Deposit Requirements” section below.

In its August 31, 2006, new shipper request, DHX certified that it did not export the subject merchandise to the United States during the POI and that it is not now and never has been affiliated with any exporter or producer who exported the subject merchandise to the United States during the POI pursuant to 19 CFR 351.214(b)(2)(i) and (iii)(A). However, the request did not submit documentation establishing the date on which its stainless steel bar was first shipped for export to the United States, the volume of that shipment, and the date of the first sale to an unaffiliated customer in the United States in accordance with 19 CFR 351.214(b)(2)(iv).

Therefore, we are not initiating a new shipper review of DHX for the semiannual review period February 1, 2006, through July 31, 2006, because its initial August 31, 2006, request did not meet the Department's regulatory requirements by the semiannual anniversary month deadline (i.e., August 31, 2006). However, the Department will treat DHX's September 1, 2006, request as a “new” request to be considered for the next new shipper initiation deadline (i.e., February 28, 2007) for the annual anniversary period of February 1, 2006, through January 21, 2007. The Department will send a letter to DHX requesting additional documentation establishing entry date and/or shipment date to support its September filing.

Cash Deposit Requirements

Pursuant to Section 1632 of the Pension Protection Act of 2006 (H.R. 4), which was signed into law on August 17, 2006, U.S. Customs and Border Protection (“CBP”) is no longer allowing collection of bonds or other types of securities in lieu of a cash deposit for new shippers for each entry of subject merchandise during the period April 1, 2006, through June 30, 2009, except for goods from Canada and Mexico. Therefore, CBP must collect a cash deposit of estimated antidumping duties on each entry of subject merchandise entered, or withdrawn from warehouse, for consumption. We note that the Department transmitted to CBP a set of instructions concerning this provision of the law where cash deposits are now required for all new shippers of the subject merchandise. The instructions can viewed on the Import Administration Web site, (http://ia.ita.doc.gov/download/customs/suspension-of-bonding-privilege-for-new-shippers.pdf).

Interested parties may submit applications for disclosure of business proprietary information under administrative protective order in accordance with 19 CFR 351.305 and 351.306.

This initiation and notice are in accordance with section 751(a)(2)(B) of the Act and 19 CFR 351.214(d).

Dated: September 20, 2006.
Stephen J. Claeys,
Deputy Assistant Secretary for Import Administration.

[FR Doc. E6-15739 Filed 9-25-06; 8:45 am]

BILLING CODE 3510-DS-S